DEPARTMENT OF LABOR

Employment and Training Administration

[TA-W-74,751]

Eaton Corporation, Clutch Division, Auburn, IN; Amended Certification Regarding Eligibility To Apply for Worker Adjustment Assistance

In accordance with Section 223 of the Trade Act of 1974, as amended (“Act”), 19 U.S.C. 2273, the Department of Labor issued a Certification of Eligibility to Apply for Worker Adjustment Assistance on February 14, 2011, applicable to workers of Eaton Corporation, Clutch Division, Auburn, Indiana. The notice will be published soon in the Federal Register.

At the request of the State Agency, the Department reviewed the certification for workers of the subject firm. The workers are engaged in the production of truck clutches.

The review shows that on October 17, 2008, an amended certification of eligibility to apply for adjustment assistance was issued for all workers of Eaton Corporation, Clutch Division, Auburn, Indiana, separated from employment on or after December 19, 2008 through September 25, 2010. The notice was published in the Federal Register on November 3, 2008 (73 FR 65405-65406).

In order to avoid an overlap in worker group coverage, the Department is amending the October 6, 2009 impact date established for TA-W-74,751, to read September 26, 2010.

The amended notice applicable to TA-W-75,147 is hereby issued as follows:

All workers of Eaton Corporation, Clutch Division, Auburn, Indiana, who became totally or partially separated from employment on or after September 26, 2010, through February 14, 2013, and all workers in the group threatened with total or partial separation from employment on date of certification through two years from the date of certification, are eligible to apply for adjustment assistance under Chapter 2 of Title II of the Trade Act of 1974, as amended.

Signed in Washington, DC, this 23rd day of February, 2011.
Elliott S. Kushner,
Certifying Officer, Office of Trade Adjustment Assistance.

[FR Doc. 2011-5660 Filed 3-11-11; 8:45 am]

BILLING CODE 4510-FN-P